FEDERAL ELECTION COMMISSION

Sunshine Act Meeting

AGENCY: Federal Election Commission.

Date and Time: Tuesday, August 15, 2017 at 10:00 a.m. and its Continuation at the Conclusion of the Open Meeting on August 17, 2017.

Place: 999 E Street NW., Washington, DC.

Status: This Meeting Will Be Closed to the Public.

Items to be Discussed: Compliance matters pursuant to 52 U.S.C. 30109.

Matters relating to internal personnel decisions, or internal rules and practices.

Information the premature disclosure of which would be likely to have a considerable adverse effect on the implementation of a proposed Commission action.

Matters concerning participation in civil actions or proceedings or arbitration.

* * * * *

Person to Contact for Information: Judith Ingram, Press Officer, Telephone: (202) 694-1220.

Laura E. Sinram,
Acting Deputy Secretary of the Commission.

[FR Doc. 2017-17019 Filed 8-8-17; 4:15 pm]

BILLING CODE 6715-01-P